DEPARTMENT OF HEALTH AND HUMAN SERVICES

Administration for Children and Families

45 CFR Parts 205, 260, 261, and 263

RIN 0970-AC97

Strengthening Temporary Assistance for Needy Families (TANF) as a Safety Net and Work Program; Withdrawal

AGENCY: Administration for Children and Families (ACF), HHS.

ACTION: Proposed rule; withdrawal.

SUMMARY: This document withdraws a proposed rule that was published in the Federal Register on October 2, 2023. The proposed rule would have amended the Temporary Assistance for Needy Families (TANF) program regulations to strengthen the safety net and reduce administrative burden.

DATES: The Administration for Children and Families is withdrawing the proposed rule published October 2, 2023 (88 FR 67697) as of January 14, 2025.

FOR FURTHER INFORMATION CONTACT: The Office of Family Assistance, ACF, at TANFquestions@acf.hhs.gov or 202-401-9275. Deaf and hard of hearing individuals may call 202-401-9275 through their chosen relay service or 711 between 8 a.m. and 7 p.m. Eastern Time.

SUPPLEMENTARY INFORMATION: The Administration for Children and Families (ACF) published a notice of proposed rulemaking (NPRM) related to the administration of TANF in the Federal Register on October 2, 2023 (88 FR 67697). The NPRM proposed to (1) establish a ceiling on the term “needy”; (2) clarify when an expenditure is “reasonably calculated to accomplish a TANF purpose”; (3) exclude as an allowable TANF maintenance-of-effort (MOE) expenditures cash donations from non-governmental third parties and the value of third-party in-kind contributions; (4) ensure that excused holidays match the number of Federal holidays, following the recognition of Juneteenth as a Federal holiday; (5) develop new criteria to allow States to use alternative Income and Eligibility Verification System (IEVS) measures; (6) clarify the “significant progress” criteria following a work participation rate corrective compliance plan; and (7) clarify the existing regulatory text about the allowability of costs associated with disseminating program information.

However, upon further consideration, the Department has elected to withdraw the Strengthening TANF as a Safety Net and Work Program Notice of Proposed Rulemaking published in the Federal Register on 10/02/2023, effective January 14, 2025. The Department appreciates the more than 7,000 comments received from State agencies, advocates and a broad range of additional stakeholders. In making the decision to withdraw the NPRM, the Department continues to recognize the importance of rulemaking to ensure that TANF funds are used in a manner consistent with statutory requirements. However, the Department has determined that it could benefit from additional public input and consideration on a set of issues relating to allowable TANF spending before adopting a final rule. With the time left in this Administration, the Department is focusing on other matters, including implementing the TANF provisions of the Fiscal Responsibility Act of 2023, and it is not feasible to solicit additional public comments. The Department has concluded that withdrawing the NPRM will assure agency flexibility in re-examining and exploring options and alternatives with stakeholders in the future prior to developing an NPRM that could draw from this additional stakeholder engagement. For these independently sufficient reasons, the Department is withdrawing this NPRM.

The NPRM published on October 2, 2023, is hereby withdrawn.

Dated: January 7, 2025.
Xavier Becerra,
Secretary, Department of Health and Human Services.

[FR Doc. 2025-00537 Filed 1-13-25; 8:45 am]

BILLING CODE 4184-36-P